DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission, Department of Energy.

DATE AND TIME: November 21, 2019, 10:00 a.m.

PLACE: Room 2C, 888 First Street NE, Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1061th Meeting—Open Meeting
[November 21, 2019, 10:00 a.m.]
Item No. | Docket No. | Company
ADMINISTRATIVE
A-1 | AD20-1-000 | Agency Administrative Matters.
A-2 | AD20-2-000 | Customer Matters, Reliability, Security and Market Operations.
A-3 | AD07-13-013 | FY2019 Report on Enforcement.
A-4 | AD20-4-000 | FERC Cyber Security Focus Areas.
ELECTRIC
E-1 | RM19-5-000 | Public Utility Transmission Rate Changes to Address Accumulated Deferred Income Taxes.
E-2 | ER19-465-000, ER19-465-001 | Midcontinent Independent System Operator, Inc.
E-3 | ER19-468-000, ER19-468-001 | California Independent System Operator Corporation.
E-4 | ER19-470-000, ER19-470-001, ER19-470-002 | ISO New England Inc.
E-5 | ER19-1900-001 | Golden Spread Electric Cooperative, Inc.
E-6 | ER19-1920-000, ER19-1920-001 | Tampa Electric Company.
E-7 | ER19-1924-000 | Cheyenne Light, Fuel and Power Company.
E-8 | ER19-1925-000 | Black Hills Colorado Electric, LLC.
E-9 | ER19-1926-000 | Black Hills Power, Inc.
E-10 | ER19-1927-000, ER19-1927-001 | Portland General Electric Company.
E-11 | EL14-12-003 | Association of Businesses Advocating Tariff Equity, Coalition of MISO Transmission Customers, Illinois Industrial Energy Consumers, Indiana Industrial Energy Consumers, Inc., Minnesota Large Industrial Group, and Wisconsin Industrial Energy Group v. Midcontinent Independent System Operator, Inc., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company-Wisconsin, Otter Tail Power Company, and Southern Indiana Gas & Electric Company.
| EL15-45-000 | Arkansas Electric Cooperative Corporation, Mississippi Delta Energy Agency, Clarksdale Public Utilities Commission, Public Service Commission of Yazoo City, and Hoosier Energy Rural Electric Cooperative, Inc. v. ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company-Wisconsin, Otter Tail Power Company, and Southern Indiana Gas & Electric Company.
E-12 | ER19-2846-000 | Trans Bay Cable LLC.
E-13 | ER19-1910-000 | Southwest Power Pool, Inc.
E-14 | ER19-2681-000 | Southwest Power Pool, Inc.
E-15 | ER18-1122-0000 | Ameren Illinois Company.
E-16 | ER19-1922-000, ER19-603-002 | PJM Interconnection, L.L.C.
| EL19-18-001 (not consolidated) | American Electric Power Service Corporation v. PJM Interconnection, L.L.C.
E-17 | EL01-88-019 | Louisiana Public Service Commission v. Entergy Services, Inc.
E-18 | EL19-50-000 | Louisiana Public Service Commission v. Entergy Corporation, Entergy Services, LLC, Entergy Louisiana, LLC, Entergy Arkansas, LLC, Entergy Mississippi, LLC, Entergy New Orleans, LLC, and Entergy Texas, Inc.
E-19 | EL17-94-000 | New York Power Authority v. PJM Interconnection, L.L.C. and PJM Transmission Owners in their Collective Capacity.
E-20 | EL19-94-000 | TerraForm Power, Inc.
E-21 | OMITTED
E-22 | EL19-88-000 | New York Power Authority.
E-23 | EL15-3-002 | City and County of San Francisco v. Pacific Gas and Electric Company.
| ER15-702-002, ER15-703-002, ER15-704-005, ER15-705-002, ER15-735-002 (consolidated) | Pacific Gas and Electric Company.
E-24 | ER19-34-003 | Midcontinent Independent System Operator, Inc.
E-25 | EL16-108-001 | Tilton Energy LLC v. Midcontinent Independent System Operator, Inc.
| EL17-29-001 | American Municipal Power, Inc. v. Midcontinent Independent System Operator, Inc.
| EL17-31-001 | Northern Illinois Municipal Power Agency v. PJM Interconnection, L.L.C.
| EL17-37-001 | American Municipal Power, Inc. v. PJM Interconnection, L.L.C.
| L17-54-001 | Dynegy Marketing and Trade, LLC and Illinois Power Marketing Company v. Midcontinent Independent System Operator, Inc.
E-26 | EL15-67-004 | Linden VFT, LLC v. PJM Interconnection, L.L.C.
| ER15-2562-003 | PJM Interconnection, L.L.C.
| ER17-950-004 | PJM Interconnection, L.L.C.
| EL17-68-001 | Linden VFT, LLC v. PJM Interconnection, L.L.C.
| EL17-84-002 | PJM Interconnection, L.L.C.
| EL17-90-002 | Linden VFT, LLC v. Public Service Electric and Gas Company and PJM Interconnection, L.L.C.
| EL17-94-001 | New York Power Authority v. PJM Interconnection, L.L.C. and PJM Transmission Owners in their Collective Capacity
| ER18-579-003 | PJM Interconnection, L.L.C.
| ER18-680-001 | PJM Interconnection, L.L.C.
| EL18-54-001 | New Jersey Board of Public Utilities v. PJM Interconnection, L.L.C., New York Independent System Operator, Inc., Consolidated Edison Company of New York, Inc., Linden VFT, LLC, Hudson Transmission Partners, LLC and New York Power Authority.
GAS
G-1 | PR17-60-003 PR17-60-004 | Atmos Pipeline—Texas
G-2 | RP18-851-000 | Cheniere Energy, Inc.
G-3 | OR19-31-000 | Saddlehorn Pipeline Company, LLC
G-4 | OMITTED
G-5 | OR19-26-000 | American Aviation Supply LLC, Delta Air Lines, Inc., JetBlue Airways Corporation, and United Airlines, Inc. v. Buckeye Pipe Line Company, L.P.
G-6 | OR16-26-000 | Aircraft Service International Group, Inc., American Airlines, Inc., Delta Air Lines, Inc., Hooker's Point Fuel Facilities LLC, Southwest Airlines Co., United Aviation Fuels Corporation, and United Parcel Service, Inc. v. Central Florida Pipeline LLC and Kinder Morgan Liquid Terminals LLC
HYDRO
H-1 | P-2242-110 | Eugene Water & Electric Board
H-2 | P-1889-089 | FirstLight Hydro Generating Company and FirstLight MA Hydro LLC
| P-2485-078 | FirstLight Hydro Generating Company and Northfield Mountain LLC.
CERTIFICATES
C-1 | CP16-116-000 | Texas LNG Brownsville LLC.
C-2 | CP16-454-000 | Rio Grande LNG, LLC.
| CP16-455-000 | Rio Bravo Pipeline Company, LLC.
C-3 | CP16-480-000 | Annova LNG Common Infrastructure, LLC, Annova LNG, Brownsville A, LLC, Annova LNG Brownsville B, LLC, and Annova LNG Brownsville C, LLC.
C-4 | CP18-332-000 | EL Paso Natural Gas Company, L.L.C.
C-5 | CP17-40-002 | Spire STL Pipeline LLC.
C-6 | CP18-512-000 | Corpus Christi Liquefaction Stage III, LLC and Corpus Christi Liquefaction, LLC.
| CP18-513-000 | Cheniere Corpus Christi Pipeline, LP.

Issued: November 14, 2019.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-25127 Filed 11-15-19; 11:15 am]

BILLING CODE 6717-01-P